Title 3—

The President

Proclamation 9709 of March 22, 2018

Greek Independence Day: A National Day of Celebration of Greek and American Democracy, 2018

By the President of the United States of America

A Proclamation

On this celebration of Greek Independence Day, we reflect on the common bonds of history and heritage that connect the United States and Greece. Our nations share cultural, economic, and defense interests, but the foundation of our abiding friendship is our unwavering commitment to liberty and our shared love of democratic institutions.

As the cradle of Western civilization and the birthplace of democracy, Greece has a rich and glorious heritage, resplendent in its influential contributions to literature, philosophy, and science. The ancient Greeks fostered the timeless ideal of human liberty, which inspired our Nation's Founders as they drafted our Constitution and established our Republic. The legacy of ancient Greece carries on today, as liberty continues to serve as a beacon of hope to all who long for a better life.

It was an honor to welcome Greek Prime Minister Alexis Tsipras to the White House last year. His visit underscored the importance of our bilateral relationship and our ongoing strategic cooperation on issues such as law enforcement, counterterrorism, and matters of defense, energy, commerce, and trade. Greece continues to meet its NATO obligations on defense spending and serves as a gracious host for our naval forces at Souda Bay. Our Greek-American partnership is strong, and we are grateful to have such a tremendous ally and friend in Greece.

Our nations continue to expand our economic and commercial ties, creating jobs and opportunities for investment and trade on both sides of the Atlantic. This year, the United States is proud to serve as the honored country at the 2018 Thessaloniki International Fair. This historic business and trade exhibition will showcase American technology, enterprise, and innovation, and will further enhance the partnership and cooperation between our great nations.

In 2018, we also celebrate 70 years of Fulbright Greece, a program of educational and cultural exchanges between the United States and Greece. Fulbright Greece, the oldest Fulbright program in Europe, is the flagship international exchange program sponsored by our Government. Since 1948, the program has awarded grants to more than 5,500 Greek and American citizens to study, teach, or conduct research, enriching both of our countries.

The United States and Greece have an enduring bond based on mutual respect, shared values, and an abiding commitment to freedom and sovereignty. More than 1.3 million Americans claim Greek origin. The Greek-American community has made countless positive contributions to our Nation and has played a vital role in maintaining our strong relationship with Greece. On this 197th anniversary celebration of Greek Independence Day, we honor Greece as a strong, faithful ally and valued partner in promoting peace, liberty, and prosperity around the world.

NOW, THEREFORE, I, DONALD J. TRUMP, President of the United States of America, by virtue of the authority vested in me by the Constitution and the laws of the United States, do hereby proclaim March 25, 2018, as Greek Independence Day: A National Day of Celebration of Greek and American Democracy. I call upon the people of the United States to observe this day with appropriate ceremonies and activities.

IN WITNESS WHEREOF, I have hereunto set my hand this twenty-second day of March, in the year of our Lord two thousand eighteen, and of the Independence of the United States of America the two hundred and forty-second.

[FR Doc. 2018-06303

Filed 3-26-18; 8:45 am]

Billing code 3295-F8-P